FEDERAL COMMUNICATIONS COMMISSION

Notice of Public Information Collection(s) Being Submitted to OMB for Review and Approval

August 13, 2004.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 27, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-1050.

Title: New Allocation for Amateur Radio Service, ET Docket No. 02-98.

Form Number: N/A.

Type of Review: Revision of a currently approved collection.

Respondents: Business or other for-profit entities; not-for-profit institutions; and Individuals or household.

Number of Respondents: 5,000 respondents.

Estimated Time per Response: 20 minutes (0.3 hours).

Frequency of Response: Recordkeeping; On occasion and one-time reporting requirements; third party disclosure.

Total Annual Burden: 1,500 hours.

Total Annual Cost: None.

Privacy Impact Assessment: Yes.

Needs and Uses: On April 29, 2003, the Office of Engineering and Technology adopted a Report and Order, Amendment of Parts 2 and 97 of the Commission's Rules to Create a Low Frequency Allocation for Amateur Radio Service, ET Docket No. 02-98, FCC 03-105. An amateur operator holding a General, Advanced or Amateur Extra Class license may only operate on the channels 5332 kHz, 5348 kHz, 5368 kHz, 5373 kHz, and 5404 kHz. Under the following limitations: (1) A maximum effective radiated power (e.r.p.) of 50 W; and (2) single sideband suppressed carrier modulation (emission designator 2K8J3E), upper sideband voice transmissions only. For the purpose of computing e.r.p. the transmitter PEP will be multiplied with the antenna gain relative to a dipole or the equivalent calculation in decibels. Licensees using other antennas must maintain in their station records either manufacturer data on the antenna gain or calculations of the antenna gain.

The FCC has determined that the information collection requirements affect “individuals or household” and has included the appropriate responses to address the Privacy Impact Assessment requirements as required by OMB Memorandum M-03-22 (September 22, 2003).

OMB Control Number: 3060-0173.

Title: Section 73.1207, Rebroadcasts.

Form Number: N/A.

Type of Review: Extension of currently approved collection.

Respondents: Business or other for-profit entities; not-for-profit institutions.

Number of Respondents: 5,562.

Estimated Hours per Response: 0.5 hours.

Frequency of Response: Recordkeeping; on occasion reporting requirement; third party disclosure.

Total Annual Burden: 5,056 hours.

Total Annual Cost: None.

Privacy Impact Assessment: No impact(s).

Needs and Uses: 47 CFR 73.1207 requires licensees of broadcast stations to obtain written permission from an originating station prior to retransmitting any program or any part thereof. A copy of the written consent must be kept in the station's files and made available to the FCC upon request. This written consent assures the Commission that prior authorization for retransmission of a program was obtained. Section 73.1207 also requires stations that use the National Institutes of Standards and Technology (NIST) time signals to notify the NIST semiannually of use of time signals.

OMB Control Number: 3060-0179.

Title: Section 73.1590, Equipment Performance Measurements.

Form Number: N/A.

Type of Review: Extension of a currently approved collection.

Respondents: Business or other for-profit entities; not-for-profit institutions.

Number of Respondents: 13,049 respondents.

Estimated Time per Response: 0.5-18 hours.

Frequency of Response: Recordkeeping requirement.

Total Annual Burden: 12,335 hours.

Total Annual Cost: None.

Privacy Impact Assessment: No impact(s).

Needs and Uses: 47 CFR 73.1590 requires licensees of AM, FM, TV and Class A stations, except licensees of Class D non-commercial educational FM stations authorized to operate with 10 watts or less output power, to make equipment performance measurements for each main transmitter. These measurements and a description of the equipment and procedure used in making the measurements must be kept on file at the transmitter for two years and must be made available to the FCC upon request. FCC staff use the data in field investigations to identify sources of interference.

Federal Communications Commission.
Marlene H. Dortch,
Secretary.

[FR Doc. 04-19631 Filed 8-26-04; 8:45 am]

BILLING CODE 6712-01-P